DEPARTMENT OF LABOR

Employment and Training Administration

[TA-W-54, 506]

Sanford Pattern Works, Inc. Taylor, MI; Notice of Negative Determination Regarding Application for Reconsideration

By application of June 28, 2004, a petitioner requested administrative reconsideration of the Department's negative determination regarding eligibility for workers and former workers of the subject firm to apply for Trade Adjustment Assistance (TAA). The denial notice applicable to workers of Sanford Pattern Works, Inc., Taylor, Michigan was signed on April 21, 2004, and published in the Federal Register on June 2, 2004 (69 FR 31134).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition was filed on behalf of workers at Sanford Pattern Works, Inc., Taylor, Michigan engaged in production of polystyrene patterns for the tool & die industry. The petition was denied because the “contributed importantly” group eligibility requirement of Section 222 of the Trade Act of 1974, as amended, was not met. The “contributed importantly” test is generally demonstrated through a survey of customers of the workers' firm. The survey revealed that the major declining customer did not import polystyrene patterns during the relevant time period.

In the request for reconsideration, the petitioner requests to extend the investigation and includes Blue Print products which are allegedly being imported from China.

A company official was contacted to confirm whether blue prints are produced by the subject firm. The company official stated that Sanford Pattern Works, Inc., does not produce blue prints for sales to customers. Any blue prints produced by the workers of the subject firm are used internally for the production of polystyrene patterns. The official further stated that the subject firm did not shift any production nor did it import any products during the relevant period.

The petitioner further states that even though polystyrene patters manufactured by the subject firm are not being imported by its customers, customers use these patterns in the production of dies, which are now being built and imported by customers from China. The petitioner concludes that, because the production of dies occurs abroad, the subject firm workers producing polystyrene patterns are import impacted.

In order to establish import impact, the Department must consider imports that are like or directly competitive with those produced at the subject firm. The Department conducted a survey of the subject firm's major declining customer. The survey revealed that the customer did not import polystyrene patterns during the relevant period.

Conclusion

After review of the application and investigative findings, I conclude that there has been no error or misinterpretation of the law or of the facts which would justify reconsideration of the Department of Labor's prior decision. Accordingly, the application is denied.

Signed at Washington, DC, this 30th day of July, 2004.
Elliott S. Kushner,
Certifying Officer, Division of Trade Adjustment Assistance, Assistance.

[FR Doc. 04-18343 Filed 8-10-04; 8:45 am]

BILLING CODE 4510-30-P